DEPARTMENT OF TRANSPORTATION

Federal Motor Carrier Safety Administration

[Docket No. FMCSA-2005-22056]

Public Meeting To Discuss the Implementation of the North American Standard for Cargo Securement; Correction

AGENCY: Federal Motor Carrier Safety Administration (FMCSA), DOT.

ACTION: Notice of public meeting; correction.

SUMMARY: The Federal Motor Carrier Safety Administration (FMCSA) published in the Federal Register on August 31, 2005 (70 FR 51857) a notice of a public meeting concerning the implementation of the North American Standard for Protection Against Shifting or Falling Cargo. The meeting was scheduled to be held on September 29-30, 2005 at the Beau Rivage Resort in Biloxi, Mississippi. However, due to the devastation caused by Hurricane Katrina, the location of this meeting has been moved from Biloxi, Mississippi, to the Hyatt Regency Indianapolis which is located at One South Capitol Avenue, Indianapolis IN 46204. Reservations can be made by contacting the Hyatt Regency Indianapolis by phone (317) 632-1234 or by fax (317) 616-6299.

DATES: The meeting will be held on September 29-30, 2005. The meeting will begin at 1 p.m. and end at 5 p.m. on September 29, 2005 and continue from 9 a.m. until 5 p.m. on September 30, 2005.

ADDRESSES: The meeting will be held at the Hyatt Regency Indianapolis, One South Capitol Avenue, Indianapolis, IN 46204.

FOR FURTHER INFORMATION CONTACT: Mr. Larry W. Minor, Director of the Office of Bus and Truck Standards and Operations (MC-PS), (202) 366-4009, Federal Motor Carrier Safety Administration, 400 Seventh Street, SW., Washington, DC 20590.

Issued on: September 12, 2005.
Warren Hoemann,
Deputy Administrator.

[FR Doc. 05-18479 Filed 9-15-05; 8:45 am]

BILLING CODE 4910-EX-M